DEPARTMENT OF DEFENSE

Office of the Secretary

32 CFR Part 251

[Docket ID: DOD-2014-OS-0058]

RIN 0790-AJ28

National Language Service Corps (NLSC)

AGENCY: Under Secretary of Defense for Personnel and Readiness, DoD.

ACTION: Final rule.

SUMMARY: This rule establishes the National Language Services Corps (NLSC) in the Code of Federal Regulations by describing the program and its responsibilities pursuant to the National Defense Authorization Act for Fiscal Year 2013, Section 954. This Section authorized the Secretary of Defense to establish the NLSC to respond to federal agencies' needs for language skills in emergencies or surge requirements. Once a federal agency identifies a need, NLSC members are advised of the potential assignment. If an individual is interested and available, he or she will go through a screening and selection process as discussed in the rule. The decision to use NLSC rests with the requesting agency and support agreements must be established before work can begin.

DATES: This final rule is effective on January 11, 2016.

FOR FURTHER INFORMATION CONTACT: John Demboski, 571-256-0654.

SUPPLEMENTARY INFORMATION: NLSC supports DoD and other U.S. departments or agencies, in need of foreign language services, with requirements of less than one year. This rule outlines NLSC membership criteria, member recruitment, appointment, and activation and describes eligibility requirements for federal employees to participate in NLSC.

In addition to 50 U.S.C. 1913 which authorizes the Secretary of Defense to establish and maintain the National Language Service Corps, 5 U.S.C. 3109 authorizes the employment of experts and consultants on a temporary or intermittent basis; 18 U.S.C. 202 defines “special Government employee;” and 31 U.S.C. 1535 authorizes the head of an agency or major organizational unit within an agency to place an order with a major organizational unit within the same agency or another agency for services.

Costs and Benefits

The Department of Defense and other federal departments and agencies have benefited from NLSC support utilizing high-level language skills of members not otherwise available to meet their organizations' short-term, immediate needs. The NLSC has established a means to access and maintain contact with citizens who are highly skilled in foreign languages who are open to short term employment. Since initial efforts in fiscal year 2007, the average cost per year to build, pilot and fully operationalize the NLSC has been $6.3 million. Current membership includes more than 5,000 members with skills in 315 foreign languages and dialects ready to serve national needs when called upon. Members include the self-employed, retirees and students just entering the workforce, who proudly want to serve their nation. As of June 2014, NLSC members have provided more than 28,000 hours of highly skilled foreign language support to 34 federal agencies and departments and their components.

Background

The National Defense Authorization Act for Fiscal Year 2006 authorized the Secretary of Defense to conduct a pilot on the establishment of a Civilian Linguist Reserve Corps. The pilot, named the National Language Service Corps, assessed the feasibility and advisability of establishing a civilian linguist reserve corps comprised of U.S. citizens with advanced levels of proficiency in foreign languages who would be available to provide foreign language services.

In January 2013, President Barack Obama signed the National Defense Authorization Act for Fiscal Year 2013, which authorized the Secretary of Defense to establish the NLSC within the DoD. The NLSC is an activity within the Defense Language and National Security Education Office (DLNSEO), the responsible DoD activity providing strategic direction and programmatic oversight to the Military Departments, Defense field activities and the Combatant Commands on present and future requirements related to language, regional expertise, and culture.

The NLSC does not offer permanent full-time or part-time jobs. The NLSC responds to federal agencies' needs for language skills in emergencies or surge requirements. For this reason, the NLSC does not maintain any postings or offer any job location services. Once a federal agency identifies a need, NLSC members are advised of the potential assignment. If an individual is interested and available, he or she will go through a screening and selection process as discussed in this rule. The decision to use NLSC rests with the requesting agency, and support agreements must be established before support can begin.

The NLSC's charter is to provide short-term surge capability or to fill short-term recurrent support that other existing capabilities cannot reasonably fill. Members have filled requirements that range from 15 minutes on the phone to 60 days in the field. If needed/desired, it is possible for members to provide recurrent, short-term support, such as for periodic exercises for up to approximately six months (130 work days or 1,040 hours, whichever comes first) in the member's service year.

The NLSC uses the Federal Interagency Language Roundtable Proficiency Guidelines (http://govtilr.org/Skills/ILRscale1.htm) (the “ILR Scale”) in speaking, reading, and listening as a basis for determining eligibility for membership. The NLSC's goal is 3/3/3 proficiency (speaking/reading/listening) in at least one foreign language and in English.

Initial non-English language proficiency is assessed by asking all NLSC applicants to complete a series of self-assessments to provide an indication of where they fall on the ILR scale. Members of the NLSC will normally undergo formal proficiency testing to verify the self-assessments prior to participating in an assignment. Several factors may require formal proficiency testing, including the need for the NLSC and requesting agencies to have formally-tested members available for assignments.

Initial English language assessment will not normally be conducted for applicants who graduated from an accredited high school and spent at least three years in the US while attending high school. If an individual did not do so, he or she may be asked to undergo the same self-assessment process as for non-English language skills. Finally, a number of members may be asked to undergo formal proficiency testing in English.

Analysis of Public Comments

On February 24, 2015, the Department of Defense published a proposed rule titled “National Language Service Corps (NLSC)” (80 FR 9669-9673). The public-comment period ended on April 27, 2015. Four public comments were received.

Comment: I am bilingual in French and attempting to learn two other languages and wanted to express my support of this rule. On a personal level I am deeply committed to using my language skills and also in public service. Thus, this program seems to offer a tremendous opportunity for those in a similar position to serve their country. Permanently establishing the NLSC is a great way for those with language skills to work for their government while advancing the statute's purpose of providing government agencies with strong language skilled individuals.

It is important to note that this is a permanent installation of what has already proven to be a successful program. Every step of the program implementation has been meticulously thought out and driven towards the program's ultimate goal. The track record of the NLSC also demonstrates that the program works. The open application process allows those from all backgrounds to apply for NLSC membership, which ensures a wide-range of individuals can become involved. An open application process is conducive in achieving the programs goal of providing government agencies with the individuals with the best language skills when they are needed.

Once they are approved as NLSC members, these individuals will have discretion as to what assignments they take on. Allowing for this level of personal choice will make the person feel that they are truly a part of the process by showing respect for their personal schedule and willingness to participate in that particular assignment. This again works towards the goal of providing passionate and driven individuals with language skills to the agencies that need them.

However, there are some areas that lack specificity. For one, a brief description of what “emergencies” or “surge requirements” would clarify exactly what types of situations NLSC forces would be used for. While I understand that this would have to be broad in order to encompass all the different agencies that may use NLSC members, it would be clearer to have explicit general situations laid out in the rule.

Overall I feel that the lack of extensive requirements is a positive thing, I do feel that more information could be sought in terms of criminal background and former employment. Having requirements such as these fleshed out in the actual rules of the program would narrow the number of applicants and thus lend more efficiency in the hiring system. It would also help the overall goal of ensuring well qualified and reputable people are available for the NLSC.

In conclusion, the proposed rule-making the NLSC a permanent program of the Department of Defense is an efficient and well-organized system. The proposed rules on NLSC member recruitment, including the application process, and how the program plans to provide members to the various government agencies are conducive to achieving its overall goal.

Response: NLSC thanks the commenter for her expressed support of this rule and commends her for mastery of a foreign language and commitment to advancing and using her language skills. The commenter notes that a brief description of “emergencies” or “surge requirements” would help clarify exactly what situations might be supported and also acknowledge that this would have to be broad in order to encompass all the different agencies that may use NLSC members. The use of both “emergency” and “surge” are, as the commenter suggests, intended for agencies to apply in relation to their organizational missions, policy and doctrine, and the events to which they must respond. For example, “emergency” as defined by the Stafford Act is “any occasion or instance for which, in the determination of the President, Federal assistance is needed to supplement State and local efforts and capabilities to save lives and to protect property and public health and safety, or to lessen or avert the threat of a catastrophe in any part of the United States.” While this definition has relevance with the Federal Emergency Management Agency, it may be restrictive and of less use for the DoD where similar events not designated by the President or outside U.S. borders could not be included. Further, examples of “emergencies” used by the Department of State relate to travel by U.S. citizens and take on a more personal connotation as experience by an individual, (i.e., losing one's passport or getting severely ill overseas) would have little or no relevance to NLSC. Thus, consistent with the commenter's recommendation, NLSC intends the definitions for broader interpretation such requesting agencies are allowed flexibility to follow their organizational guidance in justifying support requirements and rationale for committing resources.

Also, NLSC appreciates the commenter's concern regarding background investigations of personnel hired to support the foreign language needs of federal agencies. Reviews for criminal background and former employment are conducted during the process for appointing and activating members in accordance with the DoD, U.S.C. and CFR references identified in § 251.6(d)(3) of the rule. No change to the rule was made based on these comments.

Comment: As a concerned citizen of the United States, I find it crucial for agencies to be able to communicate properly with foreign entities. I am writing to express my support for the National Languages Services Corps being made into a permanent program.

The National Languages Services Corps plays a key role in meeting the demands of our modern globalized society. The United States is involved in parts of the world where language skills may be required at short notice. This organization helps fill the void and retains a reservoir of professional skills that can be invaluable in times of need. Communication with many communities can be very difficult and the National Languages Services Corps creates an organized system ensuring that our nation will be able to promptly addressing any problems that arise.

Retaining professionals on a limited basis is a great cost effective strategy. Tax payers are not burdened by frivolous spending on language experts. They are only hired when their services are needed.

The National Languages Services Corps should be a permanent organization because it is invaluable to Department of Defense's ability respond to emergencies.

Conclusion: Restate your position and summarize how it advances important public interests or interests of the agency, such as the agency's stated goals or the purpose of the statutory scheme that provides the authority for the rule making.

Response: NLSC thanks the commenter for expressed support. In response to the comment regarding advancement of public interests, at the direction of the U.S. Congress, the U.S. Government Accountability Office (GAO) has evaluated and issued reports on the foreign language capabilities of government agencies, to include the DoD, the Department of Homeland Security, and the State Department, noting that foreign language skills are an increasingly key element to the success of diplomatic efforts and military, counterterrorism, law enforcement and intelligence missions. In all cases, GAO recommended that agencies better assess their foreign language capabilities and address potential shortfalls. The NLSC presents one means for the agencies to address shortfalls. The preamble and rule identify the purpose of the rule to enable the NLSC to provide foreign language services to U.S. departments and agencies pursuant to 50 U.S.C. 1913.

Comment: I agree with this rule of adding the Nation Language Service Corps as a permanent organization because of the benefits the government can obtain with volunteered people assisting in the communicating with many different countries' people during emergencies. People are screened and go through an application process to be a member of the NLSC and are ready to be called upon for their bilingual skills. Disasters happen all the time and without warning, while this rule will allow the creation of an organization with members that will allow communications between countries to be easy. The NLSC is already successful and its open application allows many people from diverse backgrounds to apply which makes the program even more successful.

Response: NLSC thanks the commenter for expressed support.

Comment: Language skill is becoming an important role in the era of globalization, where economic and technical developments rapidly integrate individuals once separated by distance and circumstance. In a narrower perspective, there is a growing need in the U.S. for individuals with language skills, in order to serve the nation by bridging language gaps and resolving emergent situations rising out of language barriers. I support this proposed rule because establishing NLSC and the program would allow qualified individuals to assist other agencies to respond efficiently to critical needs on a national level. In addition to my expressed support for the proposed rule, I would also like to express my personal view on some of the provisions that lack specificity and should be elaborated by the agency, because in a rulemaking procedure, the agency needs to consider all relevant factors, including but not limited to the rule's substance, coverage, conditions, and the economic effects. I suggest that the agency consider the following provisions.

I particularly found that § 251.4(a) lacks specificity. The provision states that the NLSC provides other agencies U.S. citizens with “high level of foreign language proficiency” without specifying what exactly constitutes as “high level proficiency”. As explained in § 251.3, the NLSC relies on Interagency Language Roundtable (ILR) scale to determine language proficiency, out of the scale range 0-5, 4 is recognized as “Advanced Professional Proficiency”, 4+ is “Advanced Professional Proficiency Plus”, and “5” which is the highest level “Functional Native Proficiency”. These terms would cause confusion because there is no further definition that specifies which scale would satisfy the “high level” requirement. While one individual is able to engage fluent day-to-day conversations in a foreign language, he or she might not be able to respond to situations where medical terms, chemical names or even specific legal terms are required. I believe that by specifying the exact level of language proficiency would narrow the application pool and ensure that the agency receives qualified applicants that match the agency needs.

The terms in § 251.6(a)(2) also need to be defined specifically. The NLSC's purpose is to provide foreign language assistance to other agencies with “surge or emergency requirements”. The proposed rule does not further define what requirements are classified as “surge” or “emergency”, my view is that although the agency may want flexibility to interpret “surge or emergency” broadly, but setting a more specific definition of “emergency requirement” would allow the NLSC to efficiently allocate resources in response to classified situations.

The member selection and response procedures in the proposed rule also require elaboration. Once accepted, NLSC members are listed in the registry and the NLSC program manager will search through the registry to find individuals for taking requests. In addition, because the selected individuals will be involved in requests that are highly confidential, I believe that NLSC should also adopt a detailed procedure on an initial background screening process and the periodical background check of the members. I also believe that the NLSC should set forth a detailed response procedure; this would again increase the efficiency and reduce the unnecessary costs when implementing the program.

Overall, I support the idea of having broad interpretations over certain terms in the proposed rule, however, I would also recommend that the NLSC adopts necessary measures to review information or knowledge that can only be obtained post-adoption, which is referred as ex post learning. Because this rule is about to establish NLSC as a permanent program, it is very important that the agency conduct post-adoption review on the program's costs and benefits. Furthermore, the agency could also set contingency on some of the provisions, allowing the agency to adjust the terms and conditions after further research and review of the program.

To conclude, this proposed rule establishing the NLSC a permanent program of the Department of Defense would serve an efficient system that assists other agencies on national level needs. I do think that the rule should be more specific on NLSC member application process, and provide a detailed program plans to provide effective assistance to other government agencies.

Response: NLSC thanks the commenter for expressed support of the program. The commenter notes that “§ 251.4(a) lacks specificity” with regard to what constituted “high level proficiency,” but caveated “specifying the exact level of language proficiency would narrow the application pool and ensure that the agency receives qualified applicants that match the agency needs.” NLSC agrees with the commenter's caveat and acknowledges that the level of skill needed is defined by the requestor of support and based on that request, NLSC will identify qualified members from the membership pool. The final decision to use NLSC remains with the requestor.

The commenter also notes that the terms “surge” and “emergency requirements” are not specifically defined and indicates that an agency may want flexibility to interpret “surge or emergency” broadly, but setting a more specific definition of “emergency requirement” would allow the NLSC to efficiently allocate resources in response to classified situations. As referenced in response to a previous comment, NLSC relies upon requesting agencies to follow their internal guidance to justify the requirement for foreign language services and the expenditure of resources to request support from NLSC.

The commenter notes a concern “that NLSC should also adopt a detailed procedure on an initial background screening process and the periodical background check of the members.” Work performed in support of NLSC must be done as a DoD civilian employee and the associated federal hiring process includes background check and periodic reinvestigations as required for employees with clearances in accordance with the DoD, U.S.C. and CFR references identified in § 251.6(d)(3) of the rule.

Finally, NLSC appreciates the commenter's acknowledgement regarding post-adoption review on the program's costs and benefits. In accordance with 50 U.S.C. 1903, the National Security Education Board will assess effectiveness of the NLSC and for recommend plans to address shortfalls. No changes were made to this rule based on these comments.

Regulatory Procedures

Retrospective Review

The revisions to this rule will be reported in future status updates as part of DoD's retrospective plan under Executive Order 13563 completed in August 2011. DoD's full plan can be accessed at: http://www.regulations.gov/#!docketDetail;D=DOD-2011-OS-0036.

Executive Order 12866, “Regulatory Planning and Review” and Executive Order 13563, “Improving Regulation and Regulatory Review”

Executive Orders 13563 and 12866 direct agencies to assess all costs and benefits of available regulatory alternatives and, if regulation is necessary, to select regulatory approaches that maximize net benefits (including potential economic, environmental, public health and safety effects, distribute impacts, and equity). Executive Order 13563 emphasizes the importance of quantifying both costs and benefits, of reducing costs, of harmonizing rules, and of promoting flexibility. This rule has been designated a “significant regulatory action,” although not economically significant, under section 3(f) of Executive Order 12866. Accordingly, the rule has been reviewed by the Office of Management and Budget (OMB).

Sec. 202, Public Law 104-4, “Unfunded Mandates Reform Act”

Section 202 of the Unfunded Mandates Reform Act of 1995 (UMRA) (Pub. L. 104-4) requires agencies assess anticipated costs and benefits before issuing any rule whose mandates require spending in any 1 year of $100 million in 1995 dollars, updated annually for inflation. In 2014, that threshold is approximately $141 million. This rule will not mandate any requirements for State, local, or tribal governments, nor will it affect private sector costs.

Public Law 96-354, “Regulatory Flexibility Act” (5 U.S.C. 601)

The Department of Defense certifies that this final rule is not subject to the Regulatory Flexibility Act (5 U.S.C. 601) because it would not, if promulgated, have a significant economic impact on a substantial number of small entities. Therefore, the Regulatory Flexibility Act, as amended, does not require us to prepare a regulatory flexibility analysis.

Public Law 96-511, “Paperwork Reduction Act” (44 U.S.C. Chapter 35)

Section 251.6(c)(1) through (3) of this rule contains information collection requirements. As required by the Paperwork Reduction Act (44 U.S.C. Chapter 35), DoD has submitted an information clearance package to the Office of Management and Budget for review. In response to DoD's invitation in the proposed rule to comment on any potential paperwork burden associated with this rule, no comments were received.

Executive Order 13132, “Federalism”

Executive Order 13132 establishes certain requirements that an agency must meet when it promulgates a proposed rule (and subsequent final rule) that imposes substantial direct requirement costs on State and local governments, preempts State law, or otherwise has Federalism implications. This final rule will not have a substantial effect on State and local governments.

List of Subjects in 32 CFR Part 251

Foreign languages, Manpower training programs.

Accordingly 32 CFR part 251 is added to read as follows:

PART 251—NATIONAL LANGUAGE SERVICE CORPS (NLSC)

Sec.
251.1 Purpose.
251.2 Applicability.
251.3 Definitions.
251.4 Policy.
251.5 Responsibilities.
251.6 Procedures.

Authority: 5 U.S.C. 3109, 18 U.S.C. 202, 31 U.S.C. 1535, 50 U.S.C. 1913.

§ 251.1 Purpose.

This part:

(a) Implements the responsibilities of the Secretary of Defense in 50 U.S.C. 1913 by establishing the NLSC program.

(b) Establishes policy, assigns responsibilities, and provides procedures for the management of the NLSC program.

(c) Assigns responsibility to the National Security Education Board (NSEB) to oversee and coordinate the activities of the NLSC (as provided and determined by the Secretary of Defense pursuant to 50 U.S.C. 1903 and 1913 with policy and funding oversight provided by the Under Secretary of Defense for Personnel and Readiness (USD(P&R)) in accordance with DoD Directive 5124.02, “Under Secretary of Defense for Personnel and Readiness (USD(P&R))” (available at http://www.dtic.mil/whs/directives/corres/pdf/512402p.pdf).

§ 251.2 Applicability.

This part applies to Office of the Secretary of Defense, the Military Departments, the Office of the Chairman of the Joint Chiefs of Staff and the Joint Staff, the Combatant Commands, the Office of the Inspector General of the Department of Defense, the Defense Agencies, the DoD Field Activities, and all other organizational entities in the DoD (referred to collectively in this part as “the DoD Components”) and federal agencies.

§ 251.3 Definitions.

Unless otherwise noted, these terms and their definitions are for the purposes of this part.

Consultant. Defined in 5 CFR part 304.

Excepted service. Appointments in the excepted service are civil service appointments within the Federal Government that do not confer competitive status and are excepted from competitive service by or pursuant to statute, by the President, or by the Office of Personnel Management, and which are not in Senior Executive Service.

Foreign language. Any language other than English.

Language proficiency. The U.S. Government relies on the Interagency Language Roundtable (ILR) scale to determine language proficiency. According to the ILR scale:

(1) 0 is No Proficiency.

(2) 0+ is Memorized Proficiency.

(3) 1 is Elementary Proficiency.

(4) 1+ is Elementary Proficiency, Plus.

(5) 2 is Limited Working Proficiency.

(6) 2+ is Limited Working Proficiency, Plus.

(7) 3 is General Professional Proficiency.

(8) 3+ is General Professional Proficiency, Plus.

(9) 4 is Advanced Professional Proficiency.

(10) 4+ is Advanced Professional Proficiency, Plus.

(11) 5 is Functional Native Proficiency.

Special government employee (SGE). Defined in 18 U.S.C. 202.

§ 251.4 Policy.

It is DoD policy that:

(a) The NLSC provides DoD, or other U.S. departments or agencies, with U.S. citizens with high levels of foreign language proficiency for short-term temporary assignments providing foreign language services.

(b) The NLSC is authorized to employ U.S. citizens as language consultants pursuant to 50 U.S.C. 1913, 5 U.S.C. 3109, and 5 CFR part 304.

(c) The NLSC is exempt from DoD Instruction 5160.71, “DoD Language Testing Program” (available at http://www.dtic.mil/whs/directives/corres/pdf/516071_2009_ch1.pdf), such that the NLSC may use tests of the Defense Language Proficiency Testing System or may use and develop other tests to assess language proficiency for the purpose of employing NLSC members as language consultants.

(d) The NLSC will be available to support DoD or other U.S. departments or agencies pursuant to 50 U.S.C. 1913.

(e) The NLSC will:

(1) Collect personally identifiable information pursuant to 50 U.S.C. 1913 from individuals interested in applying for NLSC membership.

(2) Comply with DoD Instruction 8910.01, “Information Collection and Reporting” (available at http://www.dtic.mil/whs/directives/corres/pdf/891001p.pdf), Volume 2 of DoD Manual 8910.01, “DoD Information Collections Manual: Procedures for DoD Public Information Collections” (available at http://www.dtic.mil/whs/directives/corres/pdf/891001m_vol2.pdf), and 32 CFR part 310.

(f) Qualified and available members with requested language skills hired in accordance with 5 U.S.C. 3109 and 5 CFR part 304 and DoD Administrative Instruction 2, “Employment of Experts and Consultants” (available at http://www.dtic.mil/whs/directives/corres/pdf/ai002p.pdf), will be temporarily assigned to government agencies pursuant to reimbursable agreements described in 31 U.S.C. 1535.

§ 251.5 Responsibilities.

(a) The USD(P&R):

(1) Provides overall policy guidance for carrying out the responsibilities and duties of the Secretary of Defense in accordance with DoD Directive 5124.02 and 50 U.S.C. 1913.

(2) Ensures appropriate resources are programmed for the administration and operation of the NLSC.

(b) Under the authority, direction, and control of the USD(P&R), the Assistant Secretary of Defense for Readiness (ASD(R)):

(1) Through the Deputy Assistant Secretary of Defense for Force Education:

(i) Develops processes and polices regarding the NLSC oversight and coordination by the NSEB in accordance with 50 U.S.C. 1903 and 1913.

(ii) Recommends and oversees the establishment and execution of policies, programs, and goals to ensure the NLSC supports the readiness of the Military Services.

(iii) Oversees, and monitors compliance with the NLSC programs and processes on behalf of the Secretary of Defense to include the procedures in § 251.6.

(iv) Ensures that functions needed to support the accomplishment of the NLSC mission are executed, including engagement with DoD Components, federal agencies, and State and local governments to identify language needs, assessment of language proficiency of its members, and skill sustainment training.

(v) Determines eligibility for NLSC membership.

(2) Hosts the annual program review identified in 50 U.S.C. 1913.

(3) Designates a program manager responsible for overseeing implementation of NLSC programs and processes.

(c) Under the authority, direction, and control of the USD(P&R), the Director, Department of Defense Human Resources Activity (DoDHRA):

(1) Implements procedures and instructions for the appointment of NLSC members in support of DoD or other U.S. departments or agencies.

(2) Authorizes and signs interagency agreements between the NLSC and organizations outside of the DoD, and delegates authority to sign such agreements as needed.

(3) Provides administrative support to the NLSC, including actions related to intra- and inter-agency agreements, the intra- and inter-agency transfer of funds, personnel actions, and travel requirements.

(4) Provides fiscal management and oversight to ensure all funds provided for the NLSC are separately and visibly accounted for in the DoD budget.

(d) DoD Components heads ensure that the use of NLSC members is considered during exercise and operational planning.

§ 251.6 Procedures.

(a) NLSC purpose. (1) The purpose of the NLSC is to identify and provide U.S. citizens with foreign language skills to support DoD or other U.S. departments or agencies, in need of foreign language services, for requirements of less than one year.

(2) The NLSC will provide capable, federally-hired individuals to rapidly respond to critical national needs and assist DoD and other U.S. departments and agencies with surge or emergency requirements.

(b) NLSC membership criteria. NLSC members must:

(1) Be a U.S. citizen.

(2) Be at least 18 years of age.

(3) Have satisfied Selective Service requirements.

(4) Be proficient in English and any other language.

(c) NLSC member recruitment. The NLSC program manager will oversee recruitment of members. NLSC maintains a registry of individuals who have applied or been accepted for membership and responds to requests for foreign language services by searching the registry to identify individuals who can provide support. NLSC collects applicant information through electronically available DD forms (located at the DoD Forms Management Program Web site at http://www.dtic.mil/whs/directives/infomgt/forms/formsprogram.htm) or comparable Web-based applications:

(1) DD Form 2932. Contains a brief set of screening questions and is used to determine basic eligibility for NLSC membership.

(2) DD Form 2933. A language screening tool to evaluate the applicant's skills with respect to specific tasks. DD Form 2933 is used in conjunction with the screening of language skills for entry into the NLSC.

(3) DD Form 2934. Provides an overall assessment of the applicant's foreign language ability. DD Form 2934 is also used in conjunction with the screening of detailed skills for entry into the NLSC.

(d) NLSC member appointment as federal employees. Where applicants meet NLSC membership criteria and are matched to foreign language services requirements, the NLSC program manager ensures actions are initiated to temporarily hire applicants and members for forecasted and actual support requests.

(1) For federal hiring, members follow excepted service hiring policies in accordance with 5 U.S.C. 3109, 5 CFR part 304, and 32 CFR part 310, and are appointed as language consultants in advance of participating in a support request, in accordance with DoD Administrative Instruction 2.

(2) An NLSC member who is already employed by a U.S. Government agency or is under contract full-time to one agency must receive a release from the head of that agency or individual empowered to release the employee or contractor before being employed for service within the NLSC pursuant to 50 U.S.C. 1913 and must comply with applicable laws and regulations regarding compensation. Such requests will be coordinated by the NLSC with the department or agency head concerned.

(3) NLSC members will be appointed on an annual basis pursuant to 5 U.S.C. 3109, 5 CFR part 304, and 32 CFR part 310 to perform duties as language consultants. If serving less than 130 days in a consecutive 365-day period, they will be considered SGEs as defined in 18 U.S.C. 202. Concurrent appointments as an SGE may be held with other DoD Components or in another federal agency.

(4) The NLSC program manager will track the number of days each NLSC member performed services and the total amount paid to each NLSC member within the 365-day period after the NLSC member's appointment.

(e) NLSC member activation. Activation encompasses all aspects of matching and hiring NLSC members to perform short-term temporary assignments to provide foreign language services. Under NLSC program manager oversight:

(1) Customer requirements are matched with skills of NLSC members and support is requested from DoDHRA to process necessary agreements, funding documents, and personnel actions to provide foreign language services. In accordance with paragraph (d)(3) of this section, NLSC members are temporarily hired as DoD employees.

(2) NLSC members are prepared for activation. If members are to be mobilized out of their home area, travel order requests are initiated. During the assignment, action will be taken to coordinate with members and clients, and assess success with the requesting agency upon completion.

(3) If duty requires issuance of DoD identification (e.g., Common Access Card), such identification will be issued to and maintained by activated NSLC members in accordance with Volume 1 of DoD Manual 1000.13, “DoD Identification (ID) Cards: ID Card Life-Cycle” (available at http://www.dtic.mil/whs/directives/corres/pdf/100013_vol1.pdf). Upon completion of the assignment, the identification will be retrieved in accordance with Volume 1 of DoD Manual 1000.13.

(4) Upon completion of assignments, DoDHRA will provide post-assignment support to members and reconcile funding to close project orders.

Dated: December 7, 2015.
Aaron Siegel,
Alternate OSD Federal Register Liaison Officer, Department of Defense.

[FR Doc. 2015-31152 Filed 12-9-15; 8:45 am]

BILLING CODE 5001-06-P